ENVIRONMENTAL PROTECTION AGENCY

40 CFR Part 52

[MD062-3087a; FRL-7236-8]

Approval and Promulgation of Air Quality Implementation Plans; Maryland; Visible Emissions and Open Fire Amendments; Correction

AGENCY: Environmental Protection Agency (EPA).

ACTION: Direct final rule; correcting amendment.

SUMMARY: This document corrects an error in the rule language of a final rule pertaining to EPA's approval of revisions to the Maryland State Implementation Plan (SIP). These revisions establish the exemption of certain intermittent visible emissions at Federal facilities, amend open burning distance limitations, and establish specific requirements for safety determinations at Federal facilities.

EFFECTIVE DATE: August 12, 2002.

FOR FURTHER INFORMATION CONTACT: Betty Harris, (215) 814-2168 or by e-mail at harris.betty@epamail.epa.gov.

SUPPLEMENTARY INFORMATION: On June 11, 2002 (67 FR 39856), EPA published a final rulemaking action announcing approval of the revisions Code of Maryland Administrative Regulations (COMAR) governing visible emissions and open burning. In this document, EPA inadvertently included a reference in section 52.1070(c)(173)(i)(B)(1) to a revised COMAR provision which is unrelated to the SIP revision action. This document corrects the erroneous language.

In rule document 02-14491 published in the Federal Register on June 11, 2002 (67 FR 39856), on page 39858 in the third column, paragraph 52.1070(c)(173)(i)(B)(1) is corrected to read “COMAR 26.11.06.02A(1)—introductory text of paragraph (1) [revised], and 26.11.06.02A(1)(j) [added].”

Section 553 of the Administrative Procedure Act, 5 U.S.C. 553(b)(B), provides that, when an agency for good cause finds that notice and public procedure are impracticable, unnecessary or contrary to the public interest, the agency may issue a rule without providing notice and an opportunity for public comment. We have determined that there is good cause for making today's rule final without prior proposal and opportunity for comment because we are merely correcting an incorrect citation in a previous action. Thus, notice and public procedure are unnecessary. We find that this constitutes good cause under 5 U.S.C. 553(b)(B).

Administrative Requirements

Under Executive Order 12866 (58 FR 51735, October 4, 1993), this action is not a “significant regulatory action” and is therefore not subject to review by the Office of Management and Budget. For this reason, this action is also not subject to Executive Order 13211, “Actions Concerning Regulations That Significantly Affect Energy Supply, Distribution, or Use” (66 FR 28355 (May 22, 2001)). Because the agency has made a “good cause” finding that this action is not subject to notice-and-comment requirements under the Administrative Procedures Act or any other statute as indicated in the Supplementary Information section above, it is not subject to the regulatory flexibility provisions of the Regulatory Flexibility Act (5 U.S.C. 601 et seq.), or to sections 202 and 205 of the Unfunded Mandates Reform Act of 1995 (UMRA) (Public Law 104-4). In addition, this action does not significantly or uniquely affect small governments or impose a significant intergovernmental mandate, as described in sections 203 and 204 of UMRA. This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of governments, as specified by Executive Order 13132 (64 FR 43255, August 10, 1999). This rule also is not subject to Executive Order 13045 (62 FR 19885, April 23, 1997), because it is not economically significant.

This technical correction action does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1998) by examining the takings implications of the rule in accordance with the “Attorney General's Supplemental Guidelines for the Evaluation of Risk and Avoidance of Unanticipated Takings” issued under the executive order. This rule does not impose an information collection burden under the Paperwork Reduction Act of 1995 (44 U.S.C. 3501 et seq.).

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated previously, EPA had made such a good cause finding, including the reasons therefore, and established an effective date of August 12, 2002. EPA will submit a report containing this rule and other required information to the U.S. Senate, the U.S. House of Representatives, and the Comptroller General of the United States prior to publication of the rule in the Federal Register. This correction to 40 CFR 52.1070(c)(173)(i)(B)(1) for Maryland is not a “major rule” as defined by 5 U.S.C. 804(2).

Dated: June 14, 2002.
Thomas C. Voltaggio,
Acting Regional Administrator, EPA Region III.

40 CFR part 52 is amended as follows:

PART 52—[AMENDED]

1. The authority citation for part 52 continues to read as follows:

Authority: 42 U.S.C. 7401 et seq.

Subpart V—Maryland

2. Section 52.1070 is amended by revising paragraph (c)(173), added on June 11, 2002 (67 FR 39856) and effective on August 12, 2002, to read as follows:

§ 52.1070 Identification of plan.

* * * * *

(c) * * *

(173) Revisions to the Maryland State Implementation Plan submitted on February 6, 1998 by the Maryland Department of the Environment:

(i) Incorporation by reference.

(A) A letter dated February 6, 1998 from the Maryland Department of the Environment transmitting additions to Maryland's State Implementation Plan, concerning exemption of certain intermittent visible emissions requirements at Federal facilities, establishment of specific requirements for safety determinations at Federal facilities, and amendment to open burning distance limitations under the “open fire” rule.

(B) The following additions and revisions to the Code of Maryland Administrative Regulations (COMAR), effective August 11, 1997:

(1) COMAR 26.11.06.02A(1)—introductory text of paragraph (1)[revised], and 26.11.06.02A(1)(j) [added].

(2) COMAR 26.11.07.01B(5) [added], 26.11.07.03B(1)(c) [revised], and 26.11.07.06 [added].

(ii) Additional Materials—Remainder of the February 6, 1998 submitted by the Maryland Department of the Environment pertaining to the amendments in paragraph (c)(173)(i) (B) of this section.

[FR Doc. 02-16035 Filed 6-28-02; 8:45 am]

BILLING CODE 6560-50-P